DEPARTMENT OF LABOR

Employment and Training Administration

[TA-W-53,939]

Tippins, Inc., Pittsburgh, PA; Notice of Negative Determination Regarding Application for Reconsideration

By application of March 15, 2004, petitioners requested administrative reconsideration of the Department's negative determination regarding eligibility for workers and former workers of the subject firm to apply for Trade Adjustment Assistance (TAA). The denial notice was signed on February 12, 2004 and published in the Federal Register on March 12, 2004 (69 FR 11888).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Tippins, Inc., Pittsburgh, Pennsylvania engaged in the refurbishing of steel and aluminum rolling mill machinery was denied because the “contributed importantly” group eligibility requirement of section 222(3) of the Trade Act of 1974, was not met. The “contributed importantly” test is generally demonstrated through a survey of the workers' firm's domestic customers. The Department conducted a survey of domestic entities to which the subject firm submitted bids in 2001, 2002, and 2003. The survey revealed that none of these companies awarded contracts to foreign sources during the relevant period. The subject firm did not increase its reliance on imports during the relevant period, nor did they shift production to a foreign source.

The petitioner alleges that in recent years all of Tippins' competitors became foreign firms and thus, any jobs Tippins lost should be considered as a loss to foreign competition.

Upon the initial investigation, the subject firm provided a list of lost bids during the relevant time period. As established in the initial investigation, the majority of these bids were for contracts on work to be done abroad. The loss of such bids could not therefore be attributed to imports and is irrelevant in this investigation. The subject firm also provided a major lost bid with a domestic contractor. It was revealed upon the contact with this entity, that the contract was awarded to another domestic firm.

Conclusion

After review of the application and investigative findings, I conclude that there has been no error or misinterpretation of the law or of the facts which would justify reconsideration of the Department of Labor's prior decision. Accordingly, the application is denied.

Signed at Washington, DC, this 7th day of May, 2004.
Elliott S. Kushner,
Certifying Officer, Division of Trade Adjustment Assistance.

[FR Doc. 04-11626 Filed 5-21-04; 8:45 am]

BILLING CODE 4510-30-P